ENVIRONMENTAL PROTECTION AGENCY

[EPA-HQ-OECA-2013-0302; FRL-9904-93-OEI]

Information Collection Request Submitted to OMB for Review and Approval; Comment Request; NSPS for the Graphic Arts Industry (40 CFR Part 60, Subpart QQ) (Renewal)

AGENCY: Environmental Protection Agency (EPA).

ACTION: Notice.

SUMMARY: The Environmental Protection Agency has submitted an information collection request (ICR), “NSPS for the Graphic Arts Industry (40 CFR part 60, Subpart QQ) (Renewal)” (EPA ICR No. 0657.11, OMB Control No. 2060-0105), to the Office of Management and Budget (OMB) for review and approval in accordance with the Paperwork Reduction Act (44 U.S.C. 3501 et seq). This is a proposed extension of the ICR, which is currently approved through March 31, 2014. Public comments were previously requested via the Federal Register (78 FR 33409) on June 4, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 12, 2014.

ADDRESSES: Submit your comments, referencing Docket ID Number EPA-HQ-OECA-2013-0302, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: The New Source Performance Standards (NSPS) for the Graphic Arts Industry (40 CFR part 60, subpart QQ) were proposed on October 28, 1980, and promulgated on November 8, 1982. The affected entities are subject to the General Provisions of the NSPS at 40 CFR part 60, subpart A and any changes, or additions to the Provisions specified at 40 CFR part 60, subpart QQ.

Owners or operators of the affected facilities must make an initial notification report, performance tests, periodic reports, and maintain records of the occurrence and duration of any startup, shutdown, or malfunction in the operation of an affected facility, or any period during which the monitoring system is inoperative. Reports are required semiannually at a minimum.

Form Numbers: None.

Respondents/Affected Entities: Graphic arts facilities.

Respondent's Obligation to Respond: Mandatory (40 CFR part 60, subpart QQ).

Estimated Number of Respondents: 20.33 (total).

Frequency of Response: Initially and semiannually.

Total Estimated Burden: 1,802 hours (per year). “Burden” is defined at 5 CFR 1320.3(b).

Total Estimated Cost: $176,264 (per year), which also includes no annualized capital or operation & maintenance costs.

Changes in the Estimates: There is an increase in the total estimated respondent burden as currently identified in the OMB Inventory of Approved Burdens. The change in burden is due to an increase in the number of sources subject to these standards, and is not due to any program changes. The number of sources has been increased to account for industry growth that has occurred since the most-recent ICR was approved.

Also, there is an increase in the respondent cost from the most recently-approved ICR due to the use of updated labor rates. This ICR references labor rates from the Bureau of Labor Statistics to calculate the respondent burden cost.

There is a decrease in the total estimated Agency burden as compared to the most recently-approved ICR. This change is due to a revision in the labor burden estimate for repeat performance testing. Due to a discrepancy in the previous ICR, the labor burden for repeat performance testing included respondents who passed the initial performance test. The revision accounts only for respondents who failed the initial performance test resulted in the reduced labor burden observed in this ICR. Also, note that the ICR also incorporates updated labor rates from OPM.

John Moses,
Director, Collection Strategies Division.

[FR Doc. 2014-00375 Filed 1-10-14; 8:45 am]

BILLING CODE 6560-50-P